SMALL BUSINESS ADMINISTRATION

National Women's Business Council; Notice of Public Meeting

In accordance with the Women's Business Ownership Act, Public Law 106-554 as amended, the National Women's Business Council (NWBC) would like to announce a forthcoming Roundtable Discussion on Accessing Government Markets. Representatives From Federal Offices of Small & Disadvantaged Business Utilization (OSDBUs) will present “best practices” supporting women business owners access to Federal contracts. Women business owners will relate their individual experiences with the Federal procurement process. Council members will hold a question and answer session following all presentations. As a result of the discussions, a report on Roundtable findings will be compiled along with policy recommendations for presentation to the President, members of Congress, and the U.S. Small Business Administration.

DATES: September 13, 2004.

ADDRESSES: Small Business Administration, Eisenhower Conference Room A & B, 409 Third Street, SW., Washington, DC.

Time: 1 p.m. to 5 p.m.

Status: Open to the public. Attendance by RSVP only.

Contact: National Women's Business Council, 202/205-6829—Aileen Kishaba.

Anyone wishing to attend and make an oral presentation at the meeting must contact Aileen Kishaba, no later than Monday, September 6, 2004, at 202/205-6829.

Matthew Becker,
Committee Management Officer.

[FR Doc. 04-19303 Filed 8-18-04; 4:50 pm]

BILLING CODE 8025-01-P